CORPORATION FOR NATIONAL AND COMMUNITY SERVICE

Proposed Information Collection; Comment Request

AGENCY: Corporation for National and Community Service.

ACTION: Notice.

SUMMARY: The Corporation for National and Community Service (CNCS), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, CNCS is soliciting comments concerning its proposed renewal of the AmeriCorps National Civilian Community Corps (NCCC) Project Sponsor Survey. The NCCC Project Sponsor Survey measures a sponsor's level of satisfaction upon completion of each NCCC project. The survey measures two outcomes of NCCC projects: Enhanced capacity of the sponsoring organization (sponsor) to meet community needs, and expanded or enhanced community impact due to sponsor-NCCC collaboration. Completion of this information collection is not required to be considered for or obtain support from AmeriCorps NCCC.

Copies of the information collection request can be obtained by contacting the office listed in the ADDRESSES section of this notice.

DATES: Written comments must be submitted to the individual and office listed in the ADDRESSES section by April 21, 2014.

ADDRESSES: You may submit comments, identified by the title of the information collection activity, by any of the following methods:

(1) By mail sent to: Corporation for National and Community Service, National Civilian Community Corps, Cameron Lewis, Program Associate, 1201 New York Avenue NW., Washington, DC 20525.

(2) By hand delivery or by courier to the CNCS mailroom at Room 8100 at the mail address given in paragraph (1) above, between 9:00 a.m. and 4:00 p.m. Eastern Time, Monday through Friday, except Federal holidays.

(3) Electronically through www.regulations.gov.

Individuals who use a telecommunications device for the deaf (TTY-TDD) may call 1-800-833-3722 between 8:00 a.m. and 8:00 p.m. Eastern Time, Monday through Friday.

FOR FURTHER INFORMATION CONTACT: Cameron Lewis, 202-606-6992, or by email at clewis@cns.gov.

SUPPLEMENTARY INFORMATION:

CNCS is particularly interested in comments that:

• Evaluate whether the proposed collection of information is necessary for the proper performance of the functions of CNCS, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

The AmeriCorps NCCC Project Sponsor Survey evaluates NCCC's performance impact on sponsoring organizations and communities. NCCC utilizes this data, completed by sponsoring organizations, to capture the short and long-term outcomes of the NCCC program on the organizations and the communities they serve. In order to achieve this goal, the survey measures enhanced capacity of the sponsoring organization (“sponsor”) to meet community needs, and expanded or enhanced community impact due to sponsor-NCCC collaboration. Sponsors receive one of two possible surveys. The first is for project sponsors that self-identify as having a volunteer generation component and the other is for non-volunteer generating projects. The volunteer generation survey has additional questions to evaluate the effectiveness of NCCC teams in recruiting or coordinating volunteers. The survey is administered electronically to all project sponsors after each round is completed.

Current Action

The information collection will otherwise be used in the same manner as the existing survey. CNCS also seeks to continue using the current survey until the revised survey is approved by OMB. The current survey is due to expire on May 2014.

Type of Review: Renewal.

Agency: Corporation for National and Community Service.

Title: AmeriCorps NCCC Sponsor Survey.

OMB Number: 3045-0138.

Agency Number: None.

Affected Public: The NCCC sponsor survey will be administered to the project sponsor for any NCCC service project. These sponsors apply to receive a 10-person NCCC team for a period of six-eight weeks to implement local service projects. There are approximately 156 projects in each of four project rounds per year. The project sponsors are uniquely able to provide the information sought in the NCCC Sponsor Survey.

Total Respondents: Based on the number of projects completed last fiscal year, NCCC expects to administer 625 surveys each fiscal year. These may not be unique responders as many sponsors receive teams on a rotating basis and thus may complete the survey more than once per year.

Frequency: Quarterly distribution. Each sponsor will complete only one survey per project.

Time per Response: 10 minutes.

Estimated Total Burden Hours: 104 hours.

Total Burden Cost (capital/startup): None.

Total Burden Cost (operating/maintenance): None.

Comments submitted in response to this notice will be summarized and/or included in the request for Office of Management and Budget approval of the information collection request; they will also become a matter of public record.

Dated: February 11, 2014.
Kate Raftery,
Director, AmeriCorps National Civilian Community Corps.

[FR Doc. 2014-03507 Filed 2-18-14; 8:45 am]

BILLING CODE 6050-28-P